DEPARTMENT OF COMMERCE

National Oceanic and Atmospheric Administration (NOAA)

NOAA's Office of Ocean Exploration and Research (OER) Strategic Plan FY 2011-FY 2015

AGENCY: Office of Ocean Exploration and Research (OER), Oceanic and Atmospheric Research (OAR), National Oceanic and Atmospheric Administration (NOAA), Commerce.

ACTION: Notice of publication and availability of the office of Ocean Exploration and Research Strategic Plan FY2011-FY2015.

SUMMARY: NOAA'S Office of Ocean Exploration and Research (OER) is electronically publishing the OER Strategic Plan for Fiscal Year (FY) 2011-2015. The strategic plan is published to meet the requirement for program direction under Public Law 111-11, Section 12104(b). The OER Strategic Plan describes the vision, mission, goals, core activities, and organization of the Office of Ocean Exploration and Research.

FOR FURTHER INFORMATION CONTACT: Electronic copies of the OER Strategic Plan and Public Law 111-11 Chapter XII are available and may be obtained from http://www.regulations.gov or from the OER Web site at http://explore.noaa.gov/OERPlan.

If you need further information, please contact: NOAA Office of Ocean Exploration and Research (OER), Attn: OER Plan Questions, 1315 East-West Highway-R/OER, Silver Spring, Maryland 20910.

Executive Summary of the OER 2011-2015 Strategic Plan

The ocean is important to humanity and is still mostly unknown. Current methods of studying its interior, boundaries, processes, resources, and changes are slow and expensive, causing management decisions to be made from relatively uninformed and incomplete knowledge. NOAA formed OER to explicitly address these issues, accelerate the pace of discoveries, and increase our understanding of the ocean.

OER supports a continuum of ocean science that makes discoveries via exploration and research, and transitions the new knowledge and capabilities to the rest of NOAA, and the national and international science, technology, and ocean management communities. OER integrates science, education, and outreach to raise awareness and increase ocean science literacy.

OER discoveries and activities help address issues such as the causes and consequences of natural events and human activities (e.g., climate change, ocean acidification), establishing the baseline in order to assess changes in biodiversity, marine life and other natural resources or habitats, understanding the dynamics of complex ecosystems, and improving the ability to model and predict future state of ocean and Great Lakes ecosystems.

This plan is centered on four cornerstone goals: Exploration, research, advanced undersea technology development, and education and outreach. OER enables discovery through the interdisciplinary efforts of ocean scientists. NOAA mission-related discoveries are transitioned to focused research (Exploration to Research = E2R) sponsored by OER and by other agencies and programs with ocean-related missions. Subsequent research-to-application and technology-to-application transitions (Research to Application = R2A) are the ultimate goal of OER activities and will strengthen science, education, and awareness of the ocean role in the life and health of our planet, and will result in improved societal understanding and management of the ocean.

SUPPLEMENTARY INFORMATION: NOAA's Office of Ocean Exploration and Research (OER) is publishing the OER Strategic Plan Fiscal Year (FY) 2011-2015, to meet the requirement for program direction under Public Law 111-11, Section 12104(b). The preparation of the Plan was also directed by the Appropriations Committee in the Joint Explanatory Statement and Senate Report (S. Rept. 110-124) accompanying the Consolidated Fiscal Year 2008 Appropriations (Pub. L. 110-161).

OER seeks to better understand our ocean frontiers through bold and innovative exploration, research and technology development. The Office explores, maps, observes, detects and characterizes ocean areas and phenomena; obtains, archives, and distributes ocean data in new ways to describe the ocean's marine life and features, living and non-living resources, and physical, chemical and biological characteristics. Data and observations resulting from OER investments will result in new discoveries, insights, knowledge and identification of new frontiers, and will likely lead to new or revised understandings of our largely unknown ocean. The OER Strategic Plan describes how NOAA will implement Chapter XII of Public Law 111-11 through the vision, mission, goals, cores and activities, and organization of the Office of Ocean Exploration and Research.

Dated: May 2, 2011.
Mark E. Brown,
Chief Financial Officer/Chief Administrative Officer, Office of Oceanic and Atmospheric Research, National Oceanic and Atmospheric Administration.

[FR Doc. 2011-11146 Filed 5-5-11; 8:45 am]

BILLING CODE 3510-KA-P